DEPARTMENT OF VETERANS AFFAIRS

[OMB Control No. 2900-0016]

Agency Information Collection Activity: Claim for Disability Insurance Benefits, Government Life Insurance; Withdrawal

AGENCY: Veterans Benefits Administration, Department of Veterans Affairs.

ACTION: Notice; withdrawal.

SUMMARY: On Tuesday, January 7, 2025 the Veterans Benefits Administration (VBA), published a notice in the Federal Register announcing an opportunity for public comment on the proposed collection Claim for Disability Insurance Benefits, Government Life Insurance, VA Form 29-357. This notice was published in error; therefore, this document corrects that error by withdrawing this FR notice.

DATES: As of January 7, 2025, the FR notice published at 90 FR 1222 on Tuesday, January 7, 2025, is withdrawn.

FOR FURTHER INFORMATION CONTACT: Maribel Aponte, 202-461-8900, vacopaperworkreduact@va.gov.

SUPPLEMENTARY INFORMATION: FR Doc. 2025-00015, published on January 7, 2025 (90 FR 1222), is withdrawn by this notice.

By direction of the Secretary.
Maribel Aponte,
VA PRA Clearance Officer, Office of Enterprise and Integration/Data Governance Analytics, Department of Veterans Affairs.

[FR Doc. 2025-00580 Filed 1-13-25; 8:45 am]

BILLING CODE 8320-01-P